DEPARTMENT OF THE INTERIOR

National Park Service

[NPS-WASO-NRNHL-22755; PPWOCRADI0, PCU00RP14.R50000]

National Register of Historic Places; Notification of Pending Nominations and Related Actions

AGENCY: National Park Service, Interior.

ACTION: Notice.

SUMMARY: The National Park Service is soliciting comments on the significance of properties nominated before January 14, 2017, for listing or related actions in the National Register of Historic Places.

DATES: Comments should be submitted by March 14, 2017.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before January 14, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

NEW YORK

Sullivan County

Woodstock Music Festival Site, Generally W. Shore, Best & Perry Rds., Bethel vicinity, SG100000684

SOUTH CAROLINA

Charleston County

Charleston Consolidated Railway, Electric and Gas Company Car House, 649 Meeting St., Charleston, SG100000686

General Asbestos and Rubber Company (GARCO) Main Mill, 0 O'Hear Ave., North Charleston, SG100000687

Greenville County

Old Pilgrim Baptist Church Cemetery and Kilgore Family Cemetery, 3540 Woodruff Rd., Simpsonville vicinity, SG100000688

Richland County

Columbia Commercial Historic District (Boundary Increase), 1222-1224 Taylor St., Columbia, BC100000689

SOUTH DAKOTA

Kingsbury County

Arlington Masonic Temple, 222 S. Main St., Arlington, SG100000690

Minnehaha County

Dell Rapids Warming House, State Ave., Dell Rapids, SG100000691

TEXAS

Carson County

Panhandle Inn, 301 Main St., Panhandle, SG100000693

Coryell County

Leon Street Bridge at the Leon River, (Road Infrastructure of Texas, 1866-1965 MPS), Leon St. at Leon R., Gatesville, MP100000694

Goliad County

Fannin Battleground State Historic Site, 734 FM 2506, Fannin, SG100000695

Harris County

Houston Fire Station No. 3, 1919 Houston Ave., Houston, SG100000696

Van Zandt County

Van Zandt County Courthouse, 121 E. Dallas St., Canton, SG100000698

WISCONSIN

Milwaukee County

North 47th Street Bungalow Historic District, 2500 blk. N. 47th between Wright & Clarke Sts., Milwaukee, SG100000699

Nominations submitted by Federal Preservation Officers:

COLORADO

Otero County

Santa Fe Trail Mountain Route Trail Segments—Iron Springs Vicinity, (Santa Fe Trail MPS), Address Restricted, Mindeman vicinity, MP100000682

The State Historic Preservation Officer reviewed the nomination and responded to the Federal Preservation Officer within 45 days of receipt of the nomination and supports listing the property in the National Register of Historic Places.

FLORIDA

Marion County

Carr Family Cabin, Nicotoon Lake, Ocala NF, FS Tract #C-2233, Umatilla vicinity, SG100000683

The State Historic Preservation Officer reviewed the nomination and responded to the Federal Preservation Officer within 45 days of receipt of the nomination and supports listing the property in the National Register of Historic Places.

PUERTO RICO

Rio Grande Municipality

Bano Grande, (New Deal Era Constructions in the Forest Reserves in Puerto Rico), PR 191, km 11.85

The State Historic Preservation Officer reviewed the nomination and responded to the Federal Preservation Officer within 45 days of receipt of the nomination and supports listing the property in the National Register of Historic Places.

TENNESSEE

Madison County

U.S. Post Office and Court House, 109 S. Highland Ave., Jackson, SG100000692

The State Historic Preservation Officer reviewed the nomination and responded to the Federal Preservation Officer within 45 days of receipt of the nomination and supports listing the property in the National Register of Historic Places.

TEXAS

Harris County

Houston National Cemetery, 10410 Veterans Memorial Dr., Houston, SG100000697

The State Historic Preservation Officer reviewed the nomination and responded to the Federal Preservation Officer within 45 days of receipt of the nomination and supports listing the property in the National Register of Historic Places.

A request for removal has been made for the following resource(s):

OKLAHOMA

Cleveland County

Bavinger, Eugene, House, (Bruce Goff Designed Resources in Oklahoma MPS), 730 60th Ave. NE., Norman, OT01001354

An additional documentation has been received for the following resource(s):

SOUTH CAROLINA

Richland County

Columbia Commercial Historic District, 1608 & 1634 Main St., Columbia, AD14000875

SOUTH DAKOTA

Bon Homme County

Bon Homme County Courthouse, 300 W. 18th Ave., Tyndall, AD84000581

Lake County

Herschell-Spillman Steam Riding Gallery, 45205 US 83/US 81, Madison vicinity, AD16000825

Authority: 60.13 of 36 CFR part 60.

Dated: January 24, 2017.
Christopher Hetzel,
Acting Chief, National Register of Historic Places/National Historic Landmarks Program.

[FR Doc. 2017-03734 Filed 2-24-17; 8:45 am]

BILLING CODE 4312-52-P